DEPARTMENT OF TRANSPORTATION

Draft Test Plan To Obtain Interference Tolerance Masks for GNSS Receivers in the L1 Radiofrequency Band (1559-1610 MHz)

AGENCY: Office of the Assistant Secretary for Research and Technology, Department of Transportation.

ACTION: Notice; extension of comment period.

SUMMARY: On September 9, 2015, the Office of the Assistant Secretary for Research and Technology (DOT) published in the Federal Register a Notice titled: “Draft Test Plan to Obtain Interference Tolerance Masks for GNSS Receivers in the L1 Radiofrequency Band (1559-1610 MHz)”. The GPS Innovation Alliance petitioned DOT to extend the comment period. DOT is granting this request and extending the comment period from October 9, 2015 to October 16, 2015.

DATES: The closing date for filing comments is extended from October 9, 2015 to October 16, 2015.

ADDRESSES: You may submit comments identified by docket number [DOT-OST-2015-0099] using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation” portion of the SUPPLEMENTARY INFORMATION section below for instructions on submitting comments.

Confidential Business Information: If you wish to submit any information under a claim of confidentiality, you should submit three copies of your complete submission, including the information you claim to be confidential business information, to the address given below under FOR FURTHER INFORMATION CONTACT. In addition, you should submit a copy from which you have deleted the claimed confidential business information to the docket. When you send a comment containing information identified as confidential business information, you should include a cover letter setting forth the reasons you believe the information qualifies as “confidential business information”. (49 CFR 7.17)

FOR FURTHER INFORMATION CONTACT: If you have questions on this notice, contact Stephen M. Mackey, Office of the Assistant Secretary for Research and Technology; Volpe National Transportation Systems Center; Aircraft Wakes and Weather Division, telephone 617-494-2753 or email Stephen.Mackey@dot.gov. If you have questions on viewing or submitting material to the docket, call Cheryl Collins, Docket Operations, telephone 202-366-9826.

SUPPLEMENTARY INFORMATION:

Background

On September 9, 2015, DOT published a Notice, “Draft Test Plan to Obtain Interference Tolerance Masks for GNSS Receivers in the L1 Radiofrequency Band (1559-1610 MHz)”. On October 2, 2015, the GPS Innovation Alliance requested an extension of the comment period to fully evaluate additional information provided at DOT's October 2nd GPS Adjacent Band Compatibility Assessment public workshop in Washington, DC DOT has previously held three public workshops to discuss the GPS Adjacent Band Compatibility Assessment. Further background, and the draft test plan, can be viewed at: http://www.gps.gov/spectrum/ABC/.

DOT believes that extension of the comment period is warranted based on the information provided in this request. Therefore, DOT has extended the comment period from October 9, 2015 to October 16, 2015.

Issued in Washington, DC, on October 7, 2015.
Gregory D. Winfree,
Assistant Secretary for Research and Technology.

[FR Doc. 2015-26068 Filed 10-13-15; 8:45 am]

BILLING CODE 4910-9X-P